NUCLEAR REGULATORY COMMISSION

[NRC-2021-0147]

Evaluations of Explosions Postulated To Occur at Nearby Facilities and on Transportation Routes Near Nuclear Power Plants

AGENCY: Nuclear Regulatory Commission.

ACTION: Draft regulatory guide; request for comment.

SUMMARY: The U.S. Nuclear Regulatory Commission (NRC) is issuing for public comment draft regulatory guide (DG)-1388, “Evaluations of Explosions Postulated to Occur at Nearby Facilities and on Transportation Routes Near Nuclear Power Plants.” This DG is proposed Revision 3 to Regulatory Guide (RG) 1.91. RG 1.91 describes methods that the NRC finds acceptable for applicants and licensees of nuclear power reactors to use in evaluating postulated accidental explosions at nearby facilities and transportation routes.

DATES: Submit comments by September 1, 2021. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods; however, the NRC encourages electronic comment submission through the Federal Rulemaking website:

• Federal Rulemaking Website: Go to https://www.regulations.gov and search for Docket ID NRC-2021-0147. Address questions about Docket IDs in Regulations.gov to Stacy Schumann; telephone: 301-415-0624; email: Stacy.Schumann@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Michael Eudy, Office of Nuclear Regulatory Research, telephone: 301-415-3104, email: Michael.Eudy@nrc.gov, Ronaldo Jenkins, Office of Nuclear Regulatory Research, telephone: 301-415-6978, email: Ronaldo.Jenkins@nrc.gov, and Kenneth See, Office of Nuclear Reactor Regulation, telephone: 301-415-1508, email: Kenneth.See@nrc.gov. They are all staff of the U.S. Nuclear Regulatory Commission, Washington, DC 20555-0001.

SUPPLEMENTARY INFORMATION:

I. Obtaining Information and Submitting Comments

A. Obtaining Information

Please refer to Docket ID NRC-2021-0147 when contacting the NRC about the availability of information for this action. You may obtain publicly available information related to this action by any of the following methods:

• Federal Rulemaking Website: Go to https://www.regulations.gov and search for Docket ID NRC-2021-0147.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

B. Submitting Comments

The NRC encourages electronic comment submission through the Federal Rulemaking website (https://www.regulations.gov). Please include Docket ID NRC-2021-0147 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment a DG in the NRC's “Regulatory Guide” series. This series was developed to describe, and make available to the public, information regarding methods that are acceptable to the NRC staff for implementing specific parts of the NRC's regulations, techniques that the staff uses in evaluating specific issues or postulated events, and data that the staff needs in its review of applications for permits and licenses.

This proposed Revision 3 to RG 1.91, entitled “Evaluations of Explosions Postulated to Occur at Nearby Facilities and on Transportation Routes Near Nuclear Power Plants,” is temporarily identified by its task number, DG-1388 (ADAMS Accession No. ML21105A439). The staff is also issuing for public comment a draft regulatory analysis (ADAMS Accession No. ML21105A438).

The NRC published Revision 2 of RG 1.91, “Evaluations of Explosions Postulated to Occur on Transportation Routes near Nuclear Power Plants,” in April 2013 to provide licensees and applicants with agency-approved guidance regarding methods acceptable to the NRC staff for determining if the risk of damage at the site caused by an accidental explosion at a nearby facility or on a transportation route is sufficiently high to warrant a detailed investigation to ensure safety-related systems, structures, and components are unaffected. The current version of RG 1.91 (Revision 2) does not reflect the changes and updates with respect to the following NRC report or current methodologies as appropriate.

This proposed revision (Revision 3) reflects updates with information pertinent to addressing the recommendations of the NRC report entitled, “Report of the U.S. Nuclear Regulatory Commission Expert Evaluation Team on Concerns Pertaining to Gas Transmission Lines Near the Indian Point Nuclear Power Plant.” (ADAMS Accession No. ML20100F635) issued in April 2020 and current methodologies as appropriate.

III. Backfitting, Forward Fitting, and Issue Finality

DG-1388, if finalized, would not constitute backfitting as defined in section 50.109 of title 10 of the Code of Federal Regulations (10 CFR), “Backfitting,” and as described in NRC Management Directive (MD) 8.4, “Management of Backfitting, Forward Fitting, Issue Finality, and Information Requests” (ADAMS Accession No. ML18093B087); would not constitute forward fitting as that term is defined and described in MD 8.4; and would not affect the issue finality of any approval issued under 10 CFR part 52, “Licenses, Certificates, and Approvals for Nuclear Power Plants.” As explained in DG-1388, applicants and licensees are not required to comply with the positions set forth in DG-1388.

Dated: July 27, 2021.
For the Nuclear Regulatory Commission.
Meraj Rahimi,
Chief, Regulatory Guidance and Programs, Management Branch, Division of Engineering, Office of Nuclear Regulatory Research.

[FR Doc. 2021-16340 Filed 7-30-21; 8:45 am]

BILLING CODE 7590-01-P